DEPARTMENT OF AGRICULTURE

Cooperative State Research, Education, and Extension Service

Notice of Intent To Establish a New Information Collection

AGENCY: Cooperative State Research, Education, and Extension Service, USDA.

ACTION: Notice and request for comments.

SUMMARY: In accordance with the Paperwork Reduction Act of 1995 (44 U.S.C. chap. 35) and the Office of Management and Budget (OMB) regulations at 5 CFR part 1320 (60 FR 44978, August 29, 1995), this notice announces the Cooperative State Research, Education, and Extension Service's (CSREES) intention to request approval to establish a new information collection in support of the 4-H Youth Enrollment Report.

DATES: Written comments on this notice must be received by September 18, 2006 to be assured of consideration. Comments received after that date will be considered to the extent practicable.

ADDRESSES: You may submit comments and requests for copies of this information collection by any of the following methods: E-mail: jhitchcock@csrees.usda.gov; Fax: 202-720-0857; Mail: USDA/CSREES, STOP 2216, 1400 Independence Avenue, SW., Washington, DC 20250-2216; Hand Delivery/Courier: 800 9th Street, SW., Room 4217, Washington, DC 20024.

FOR FURTHER INFORMATION CONTACT: Jason Hitchcock, E-Government Program Leader, Information Systems and Technology Management, 202-720-4343.

SUPPLEMENTARY INFORMATION: Title: 4-H Youth Enrollment Report.

OMB Number: 0524-New.

Type of Request: Intent to request and establish an information collection.

Abstract: The mission of National 4-H Headquarters; Cooperative State Research, Education, and Extension Service; United States Department of Agriculture (USDA); is to advance knowledge for agriculture, the environment, human health and well-being, and communities by creating opportunities for youth. 4-H is a complex national organization, led by National 4ndash;H Headquarters, CSREES, USDA, with hundreds of educational curricula, activities, and events for youth ages 5 to 17. Programs originate at 105 land-grant universities (LGUs), and local programs are conducted and managed by some 4,000 professional Extension staff in 3,050 counties, with nearly 7 million youth enrolled each year. Nearly 600,000 volunteer leaders work directly with the 4-H youth.

The 1914 Smith-Lever Act created the Cooperative Extension System (CES) of the LGUs and their Federal partner, the Extension Service, now the Cooperative State Research, Education, and Extension Service (CSREES), USDA. 4-H was already well-established, and became the first operating part of the new extension work. The Smith-Lever Act stipulated that “It shall be the duty of said colleges, annually, on or about the first day of January, to make to the Governor of the State in which it is located a full and detailed report of its operations in extension work as defined in this Act * * * a copy of which report shall be sent to the Secretary of Agriculture.” As a result of this requirement, annually each county sends their state 4-H office an electronic aggregated summary of their 4-H enrollment.

Information collected in the 4-H Youth Enrollment Report includes youth enrollment totals by delivery mode, youth enrollment totals by type of 4-H activity, youth enrollment totals by school grade, youth enrollment totals by gender, youth enrollment totals by place of residence, adult volunteer totals, youth volunteer totals, and youth enrollment totals by race and ethnicity.

Need and Use of the Information: The Annual 4-H Enrollment Report is the principal means by which the 4-H movement can keep track of its progress, as well as emerging needs, potential problems and opportunities.

The information from this collection is used to report, as requested by the Congress or the Administration, on rural versus urban outreach, enrollment by race, youth participation in leadership, community service, etc. It also is used to determine market share or percentage of the youth of each state by age and place of residence who are enrolled in the 4-H youth development program. The annual 4-H Youth Enrollment Report also allows oversight of all reasonable efforts by staff and volunteers to reach underserved and minority groups. Information also is available at http://www.national4-hheadquarters.gov/library/4h_stats.htm.

Estimate of Burden: The hour burden estimates were calculated based on a survey of respondents conducted by CSREES for the purpose of obtaining clearance from the Office of Management and Budget in compliance with the Paperwork Reduction Act.

Estimated Number of Respondents: 56.

Estimated Number of Responses per Respondent: 1.

Estimated Time per Response: 1 hour.

Estimated Total Annual Burden on Respondents: 56 hours.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Done in Washington, DC, this 11th day of July, 2006.
Gale Buchanan,
Under Secretary, Research, Education, and Economics.

[FR Doc. E6-11535 Filed 7-19-06; 8:45 am]

BILLING CODE 3410-22-P